DEPARTMENT OF HOMELAND SECURITY

Coast Guard

33 CFR Part 100

[Docket No. USCG-2012-0946]

Special Local Regulation; Southern California Annual Marine Events for the San Diego Captain of the Port Zone

AGENCY: Coast Guard, DHS.

ACTION: Notice of enforcement of regulation.

SUMMARY: The Coast Guard will enforce the Special Local Regulations in 33 CFR 100.1101 from 7 a.m. to 11:30 a.m. on November 11, 2012 on Mission Bay, CA in support of the San Diego Fall Classic. This action is necessary to restrict vessel movement and provide for the safety of the participants, crew, spectators, sponsor vessels of the race, and general users of the waterway. During the enforcement period, persons and vessels are prohibited from entering into, transiting through, or anchoring within this designated race area unless authorized by the Captain of the Port, or his designated representative.

DATES: The regulations in 33 CFR 100.1101 will be enforced on November 11, 2012 from 7 a.m. until 11:30 a.m.

FOR FURTHER INFORMATION CONTACT: If you have questions on this notice, call or email Petty Officer Bryan Gollogly, Waterways Management, U.S. Coast Guard Sector San Diego, CA; telephone (619) 278-7656, email D11-PF-MarineEventsSanDiego@uscg.mil.

SUPPLEMENTARY INFORMATION: The Coast Guard will enforce the special local regulations in 33 CFR 100.1101 on November 11, 2012 from 7 a.m. to 11:30 a.m. in support of the annual San Diego Fall Classic (Item 1 on Table 1 of 33 CFR 100.1101). The Coast Guard will enforce the special local regulations on the navigable waters of Mission Bay from Fiesta Island and along the southern and western shore of Vacation Isle. The event will consist of approximately 100 participants in rowing shells ranging from 26 to 55 feet in length. Each race will consist of heats of approximately six to eight rowing shells. The sponsor will provide seven to nine safety perimeter vessels to patrol the racecourse.

Under the provisions of 33 CFR 100.1101, persons and vessels are prohibited from entering into, transiting through, or anchoring within this safety zone unless authorized by the Captain of the Port, or his designated representative. The Coast Guard may be assisted by other Federal, State, or local law enforcement agencies in enforcing this regulation.

This notice is issued under authority of 33 CFR 100.1101 and 5 U.S.C. 552(a). In addition to this notice in the Federal Register, the Coast Guard will provide the maritime community with extensive advance notification of this enforcement period via the Local Notice to Mariners, state, or local agencies.

Dated: October 18, 2012.
S.M. Mahoney,
Captain of the Port San Diego, United States Coast Guard.

[FR Doc. 2012-27252 Filed 11-6-12; 8:45 am]

BILLING CODE 9110-04-P